DEPARTMENT OF AGRICULTURE

Agricultural Research Service

Soliciting Comments on a Draft Outline of a Strategic Plan for Aquaculture Economic Development and on Updating the National Aquaculture Development Plan

AGENCY: Agricultural Research Service, USDA.

ACTION: Request for public comments.

SUMMARY: The Subcommittee on Aquaculture (SCA) is seeking public comment on a draft outline of the Strategic Plan for Aquaculture Economic Development (SPAED), and information on a planned update to the 1983 National Aquaculture Development Plan (NADP).

The SCA is a statutory subcommittee that operates under the Committee on Environment of the National Science and Technology Council (NSTC) under the Office of Science and Technology Policy in the Executive Office of the President [National Aquaculture Act of 1980 (Pub. L. 96-362. 94 Stat. 1198, 16 U.S.C. 2801, et seq.) and the National Aquaculture Improvement Act of 1985 (Pub. L. 99-198, 99 Stat. 1641)]. In May of 2020, the SCA established a Task Force charged with developing the SPAED, and this Task Force is seeking public comment on a draft outline regarding the goals and objectives to be included. The draft outline is available at https://www.ars.usda.gov/SCA/.

In addition, the National Aquaculture Act of 1980 required select federal agencies to develop, and update as necessary, the NADP. Last completed in 1983, the NADP describes aquaculture-associated technologies, problems, and opportunities in the United States and its territories. It recommends actions to solve problems, and analyzes the social, environmental, and economic impacts of growth in aquaculture. As announced in the Federal Register in August 2021, the SCA is updating the NADP, which will incorporate by reference the final and any subsequent updated versions of the National Strategic Plan for Aquaculture Research (NSPAR), the Strategic Plan to Enhance Regulatory Efficiency in Aquaculture (SPEREA), and the SPAED. The NSPAR and the SPEREA are in the final stages of review. Draft versions can be found at www.ars.usda.gov/sca, where final versions will be posted once approved. The SCA is seeking comments on additional topics to be covered in the NADP.

DATES: Comments must be received by April 1, 2022, to be assured of consideration.

ADDRESSES: The draft outline of the SPAED can be downloaded at www.ars.usda.gov/sca/. Address all comments concerning the SPAED and topics to be covered in the NADP to:

• Electronic Submissions: Submit electronic public comments to AquacultureEcoDev@usda.gov; or

• Mail: Gabriela McMurtry, Attn: Aquaculture Economic Development Plan Comments, Office of Policy, F/AQ, 1315 East-West Highway, 14th Floor, Silver Spring, MD 20910.

Comments sent by any other method, to any other address or individual, or received after the end of the comment period, may not be considered. All comments received are part of the public record and will be made available for public viewing upon request. All personal identifying information (e.g., name, address, etc.), confidential business information, or other sensitive information submitted voluntarily by the sender will be publicly accessible.

FOR FURTHER INFORMATION CONTACT: Deputy Director, Office of Aquaculture, NOAA Fisheries—David O'Brien, david.obrien@noaa.gov, 301-427-8337. Assistant Deputy Administrator, U.S. Department of Agriculture, Rural Development—Andy Jermolowicz, andrew.jermolowicz@usda.gov, 202-690-0361.

SUPPLEMENTARY INFORMATION:

Type of Request: Seeking public review and comment on the draft outline of a Strategic Plan for Economic Development through Aquaculture and input on additional topics to be covered in the National Aquaculture Development Plan.

Abstract: The Subcommittee on Aquaculture (SCA)—previously known as the Interagency Working Group on Aquaculture (IWGA) and the Joint Subcommittee on Aquaculture (JSA)—is a statutory subcommittee that operates under the Committee on Environment of the National Science and Technology Council (NSTC) under the Office of Science and Technology Policy in the Executive Office of the President [National Aquaculture Act of 1980 (Pub. L. 96-362. 94 Stat. 1198, 16 U.S.C. 2801, et seq.); the National Aquaculture Improvement Act of 1985 (Pub. L. 99-198, 99 Stat. 1641)]. The SCA is co-chaired by the Department of Agriculture, Department of Commerce, and the White House Office of Science and Technology Policy. Members include the Department of Agriculture, Department of Commerce, Army Corps of Engineers, Department of the Interior, Food and Drug Administration, Environmental Protection Agency, and the Office of Management and Budget. The SCA serves as the Federal interagency coordinating group to increase the overall effectiveness and productivity of Federal aquaculture research, regulation, technology transfer, and assistance programs. This interagency coordinating group has been functioning since before the National Aquaculture Act was signed into law in 1980.

In 2020, the SCA established an Economic Development Task Force charged with developing a strategic plan to support a robust, resilient, and environmentally sustainable domestic aquaculture sector. The plan seeks to support the viability and expansion of existing operations, encourage new entrants, and maximize the effectiveness of existing federal policies and programs, while strengthening the public-private partnerships with federal stakeholders. This Task Force includes federal employees from the Department of Agriculture, Department of Commerce, Department of the Interior, the State Department, the Department of Health & Human Services, the Small Business Administration, and Environmental Protection Agency.

The NAA of 1980 requires, in revising the NADP, that the Secretary of Agriculture consult with the Secretary of Commerce and the Secretary of the Interior, other appropriate Federal officers, States, regional fishery management councils established under the Magnuson-Stevens Act, and representatives of the aquaculture industry. In addition, the Act requires the Secretary of Agriculture to give interested persons and organizations an opportunity to comment during the development of the Plan. The NADP is required to include all the elements listed in National Aquaculture Act of 1980; and additionally, identify legal/regulatory constraints and solutions, and specifically those associated with use rights. The main elements of the NADP are described in Sec. 2303(b)(1) through (6) of the National Aquaculture Act of 1980.

The SCA believes that much of the required content of the NADP was developed either within the former Joint Subcommittee on Aquaculture, the current SCA, or individually by agencies. As described in this notice, the NSPAR and SPEREA are in their final stages of review, and the SPAED is under development. The SCA believes that much of the required content of the NADP will be contained within these three strategic plans. The SCA seeks public comment on additional topics to be addressed in the NADP that are not covered in the NSPAR, SPEREA, and SPAED.

All comments received will become a matter of public record.

Simon Y. Liu,
Associate Administrator, ARS.

[FR Doc. 2022-04444 Filed 3-2-22; 8:45 am]

BILLING CODE 3410-03-P